DEPARTMENT OF AGRICULTURE

Rural Telephone Bank

Sunshine Act Meeting

AGENCY: Rural Telephone Bank, USDA.

ACTION: Privatization Committee Meeting.

Time and Date: 9 a.m., Thursday, October 3, 2002.

Place: Conference Room 5030—South Building, U.S. Department of Agriculture, 1400 Independence Avenue, SW., Washington, DC.

Status: Open.

Matters To Be Discussed: The business advisor will report on the status of current privatization projects.

FOR MORE INFORMATION CONTACT: Roberta D. Purcell, Assistant Governor, Rural Telephone Bank, (202) 720-9554.

Dated: September 19, 2002.
Hilda Gay Legg,
Governor, Rural Telephone Bank.

[FR Doc. 02-24595 Filed 9-24-02; 11:01 am]

BILLING CODE 3410-15-M